DEPARTMENT OF COMMERCE

Foreign-Trade Zones Board

[Docket 29-2003]

Wacker Chemical Corporation—Application for Subzone Status; Extension of Comment Period

The comment period for the application for subzone status at the Wacker Chemical Corporation in Adrian, Michigan, submitted by the Greater Detroit Foreign-Trade Zone, Inc. (68 FR 38009, 6/26/03), is being extended again, to December 12, 2003 to allow interested parties additional time in which to comment. Rebuttal comments may be submitted during the subsequent 15 day period, until December 29, 2003. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

Dated: November 21, 2003.
Dennis Puccinelli,
Executive Secretary.

[FR Doc. 03-29856 Filed 12-1-03; 8:45 am]

BILLING CODE 3510-DS-P